ENVIRONMENTAL PROTECTION AGENCY

[FRL-9452-7]

Notification of a Public Teleconference of the Science Advisory Board Panel for the Review of the Great Lakes Restoration Initiative Action Plan

AGENCY: Environmental Protection Agency (EPA).

ACTION: Notice.

SUMMARY: The Environmental Protection Agency (EPA or Agency) Science Advisory Board (SAB) Staff Office announces a public teleconference of the SAB Panel to discuss its draft advisory report on the interagency Great Lakes Restoration Initiative Action Plan FY 2010-2014.

DATES: The teleconference will be held on September 16, 2011 from 1 p.m. to 5 p.m. (Eastern Daylight Time).

ADDRESSES: The public teleconference will be conducted by telephone only.

FOR FURTHER INFORMATION CONTACT: Any member of the public wishing further information regarding this teleconference meeting may contact Mr. Thomas Carpenter, Designated Federal Officer (DFO), SAB Staff Office, by telephone/voice mail at (202) 564-4885; by fax at (202) 565-2098 or via e-mail carpenter.thomas@epa.gov. General information concerning the EPA Science Advisory Board can be found at the EPA SAB Web site at http://www.epa.gov/sab.

SUPPLEMENTARY INFORMATION: The SAB was established pursuant to the Environmental Research, Development, and Demonstration Authorization Act (ERDAA), codified at 42 U.S.C. 4365 to provide independent scientific and technical advice to the Administrator on the technical basis for Agency positions and regulations. The SAB is a Federal Advisory Committee chartered under the Federal Advisory Committee Act (FACA), 5 U.S.C., App. 2. Pursuant to FACA and EPA policy, notice is hereby given that an ad hoc SAB Panel will hold a public teleconference to discuss its draft advisory report on the Great Lakes Restoration Initiative Action Plan. The SAB will comply with the provisions of FACA and all appropriate SAB Staff Office procedural policies.

Background: EPA is leading an interagency Great Lakes Restoration Initiative (GLRI) to protect and restore the chemical, biological, and physical integrity of the Great Lakes. The GLRI Action Plan is designed to target the most significant environmental problems in the region, as documented in extensive scientific studies, conferences and workshops. To guide the efforts of the GLRI, EPA and its Federal partners, through the Great Lakes Interagency Task Force, developed a comprehensive multi-year Action Plan. The GLRI Action Plan identifies outcome-oriented performance goals, objectives, measurable ecological targets, and specific actions for five major focus areas: toxic substances and areas of concern; invasive species; near-shore health and nonpoint source pollution; habitat and wildlife protection and restoration; and accountability, education, monitoring, evaluation, communication, and partnerships. EPA is seeking SAB review and comment regarding the Great Lakes Restoration Initiative's Action Plan. Additional information describing the scientific background and basis for the Action Plan can be found at http://yosemite.epa.gov/sab/sabproduct.nsf/fedrgstr_activites/Review%20of%20GLRI%20Action%20Plan?OpenDocument.

The panel held a public meeting on July 12 and 13, 2011 (76 FR 115, 34977-34978 and 76 FR 131 40355) to discuss their comments on the Action Plan. The purpose of the September 16, 2011 teleconference is for the Panel to discuss their draft advisory report.

Availability of Meeting Materials: The agenda and the draft Advisory Report on the Great Lakes Restoration Initiative Action Plan will be available on the SAB Web site at http://www.epa.gov/sab in advance of the meeting.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a Federal advisory committee to consider as it develops advice for EPA. Input from the public to the SAB will have the most impact if it consists of comments that provide specific scientific or technical information or analysis for SAB panels to consider or if it relates to the clarity or accuracy of the technical information included. Members of the public wishing to provide comment should contact the Designated Federal Officer for the relevant advisory committee directly.

Oral Statements: In general, individuals or groups requesting an oral presentation at this public teleconference will be limited to three minutes per speaker. Interested parties should contact Mr. Thomas Carpenter, DFO, in writing (preferably via e-mail), at the contact information noted above, by September 12, 2011 to be placed on the list of public speakers for the meeting.

Written Statements: Written statements should be received in the SAB Staff Office by September 12, 2011 so that the information may be made available to the SAB Oil Spill Research Review Panel for their consideration. Written statements should be supplied to the DFO in the following formats: one hard copy with original signature and one electronic copy via e-mail (acceptable file format: Adobe Acrobat PDF, WordPerfect, MS Word, MS PowerPoint, or Rich Text files in IBM-PC/Windows 98/2000/XP format). Submitters are requested to provide two versions of each document submitted: One each with and without signatures, because the SAB Staff Office does not publish documents with signatures on its Web sites. It is the SAB Staff Office general policy to post written comments on the Web page for the advisory meeting or teleconference. Members of the public should be aware that their contact information, if included in any written comments, will appear on the web. Furthermore, special care should be taken not to include copy-righted material.

Accessibility: For information on access or services for individuals with disabilities, please contact Mr. Thomas Carpenter at the phone number or e-mail address noted above, preferably at least ten days prior to the meeting, to give EPA as much time as possible to process your request.

Dated: August 10, 2011.
Vanessa T. Vu,
Director, EPA Science Advisory Board Staff Office.

[FR Doc. 2011-21100 Filed 8-17-11; 8:45 am]

BILLING CODE 6560-50-P